DEPARTMENT OF STATE

[Public Notice 4398]

Determination Related to the Participation of the Magen David Adom Society of Israel in the Activities of the International Red Cross and Red Crescent Movement

Pursuant to the requirements contained in the Foreign Operations, Export Financing, and Related Appropriations, Division E., Title II, of the Consolidated Appropriations Resolution, FY 2003 (Pub. L. 108-7), under the heading of Migration and Refugee Assistance, I hereby determine that the Magen David Adom Society of Israel is not being denied participation in the activities of the International Red Cross and Red Crescent Movement.

This Determination shall be published in the Federal Register, and copies shall be provided to the appropriate committees of the Congress.

Dated: June 27, 2003.
Colin L. Powell,
Secretary of State, Department of State.

[FR Doc. 03-17601 Filed 7-10-03; 8:45 am]

BILLING CODE 4710-10-P